LEGAL SERVICES CORPORATION

Sunshine Act Meetings

TIME AND DATE: The Search Committee for LSC Inspector General (Search Committee) of the Legal Services Corporation Board of Directors will meet virtually on Tuesday, February 28, 2023. The meeting will commence at 11:00 a.m. EST and will continue until the conclusion of the Committee's agenda.

PLACE: Public notice of virtual meetings.

LSC will conduct the February 28, 2023 meeting via Zoom.

STATUS: Closed.

MATTERS TO BE CONSIDERED:

Closed Session

1. Approval of Agenda.

2. Discuss the interviews of candidates for the position of Legal Services Corporation Inspector General.

3. Decide which candidates, if any, to consider further.

4. Determine whether to conduct further interviews of selected candidates, discuss the questions the Search Committee would like to ask, and determine the dates of such further interviews.

5. Adjourn.

CONTACT PERSON FOR MORE INFORMATION: Cheryl DuHart, Administrative Coordinator, Office of Legal Affairs, at (202) 295-1621. Questions may also be sent by electronic mail to duhartc@lsc.gov.

Dated: February 21, 2023.
Stefanie Davis,
Senior Associate General Counsel for Regulations.

[FR Doc. 2023-03923 Filed 2-22-23; 8:45 am]

BILLING CODE 7050-01-P